DEPARTMENT OF TRANSPORTATION

Federal Aviation Administration

14 CFR Part 39

[Docket No. FAA-2006-25157; Directorate Identifier 2006-CE-34-AD; Amendment 39-14814; AD 2006-23-02]

RIN 2120-AA64

Airworthiness Directives; Raytheon Aircraft Company Models C90A, B200, B200C, B300, and B300C Airplanes

AGENCY: Federal Aviation Administration (FAA), DOT.

ACTION: Final rule; correction.

SUMMARY: This document makes a correction to Airworthiness Directive (AD) 2006-23-02, which was published in the Federal Register on November 8, 2006 (71 FR 65390), and applies to certain Raytheon Aircraft Company (RAC) (formerly Beech) Models C90A, B200, B200C, B300, and B300C airplanes. AD 2006-23-02 requires you to inspect the flight controls for improper assembly or damage, and if any improperly assembled or damaged flight controls are found, take corrective action. We proposed in the notice of proposed rulemaking (NPRM) “unless already done” credit if the actions were already accomplished. However, we inadvertently left that language out of paragraph (e) of AD 2006-23-02. This document corrects that paragraph by inserting the phrase “unless already done.”

DATES: The effective date of this AD (2006-23-02) remains December 13, 2006.

FOR FURTHER INFORMATION CONTACT: Chris B. Morgan, Aerospace Engineer, FAA, Wichita Aircraft Certification Office, 1801 Airport Road, Wichita, Kansas 67209; telephone: (316) 946-4154; facsimile: (316) 946-4107.

SUPPLEMENTARY INFORMATION:

Discussion

On October 26, 2006, the FAA issued AD 2006-23-02, Amendment 39-14814 (71 FR 65390, November 8, 2006), which applies to certain RAC Models C90A, B200, B200C, B300, and B300C airplanes. AD 2006-23-02 requires you to inspect the flight controls for improper assembly or damage, and if any improperly assembled or damaged flight controls are found, take corrective action. We proposed in the NPRM “unless already done” credit if the actions were already accomplished. However, we inadvertently left that language out of paragraph (e) of AD 2006-23-02.

Need for the Correction

This correction is needed to allow credit for already completed actions required by this AD. This document corrects that paragraph by inserting the phrase “unless already done” in paragraph (e) of AD 2006-23-02 as was proposed in the NPRM.

Correction of Publication

Accordingly, the publication of November 8, 2006 (71 FR 65390), of Amendment 39-14814; AD 2006-23-02, which was the subject of FR Doc. E6-18727, is corrected as follows:

Section 39.13 [Corrected]

On page 65391, in section 39.13 [Amended], in paragraph (e), change the text to read: “To address this problem, you must do the following, unless already done:”

Action is taken herein to correct this reference in AD 2006-23-02 and to add this AD correction to section 39.13 of the Federal Aviation Regulations (14 CFR 39.13).

The effective date remains December 13, 2006.

Issued in Kansas City, Missouri, on December 12, 2006.
Kim Smith,
Manager, Small Airplane Directorate, Aircraft Certification Service.

[FR Doc. E6-21748 Filed 12-20-06; 8:45 am]

BILLING CODE 4910-13-P